OFFICE OF THE UNITED STATES TRADE REPRESENTATIVE

Practices of the Government of Canada and of the Province of Ontario Regarding Measures Affecting Tourism and Sport Fishing

ACTION: Notice of results of section 302 investigation and invitation for public comments.

SUMMARY: The United States Trade Representative (USTR) has conducted an investigation initiated under section 302(a) of the Trade Act of 1974, as amended (the Trade Act) (19 U.S.C. 2412(a)), with respect to certain acts, policies and practices of the Government of Canada and of the Province of Ontario that may discriminate against U.S. providers of tourism services. The USTR initiated this investigation on April 29, 1999, in response to a petition filed by the Border Waters Coalition Against Discrimination in Services Trade. Subsequently, the Government of Canada and the Province of Ontario have taken steps that provide a satisfactory resolution of the dispute concerning the acts, policies, and practices that are the subject of this investigation. Therefore, pursuant to section 304(a)(1)(B) of the Trade Act, the USTR has determined that the appropriate action in this case is to terminate the investigation and to monitor the Canadian and Ontario Governments' implementation of these measures to eliminate those acts, policies, and practices. The USTR invites public comment with respect to this action.

ADDRESSES: Office of the United States Trade Representative, 600 17th Street, NW, Washington, DC 20508.

FOR FURTHER INFORMATION CONTACT: Mary Ryckman, Director for Canadian Affairs, (202) 395-3412, or Steven F. Fabry, Associate General Counsel, (202) 395-3582.

SUPPLEMENTARY INFORMATION: On March 15, 1999, the Border Waters Coalition Against Discrimination in Services Trade filed a petition pursuant to section 302(a) of the Trade Act alleging that certain acts, policies and practices of the Government of Canada and the Province of Ontario are actionable under section 301. In particular, the petition alleged that Ontario impaired the ability of Minnesota tourist establishments (fishing resorts, fishing guides, outfitters, and others) to compete against their Canadian counterparts by prohibiting U.S. recreational fishermen from keeping their catch if they lodged on the Minnesota side of certain lakes that straddle the U.S.-Canadian border. U.S. fishermen who lodged instead in Ontario tourist establishments were permitted to keep their catch. The petition alleged that, as a result, U.S. resorts, fishing guides, and other businesses tied to sport fishing suffered discrimination. The petition further alleged that Canadian immigration officials required U.S. fishing guides to obtain Canadian work authorizations to guide fishing trips into Canada. The petition also alleged that these acts, policies or practices had caused a sharp fall-off in the tourism industry, which directly or indirectly generates over $700 million in revenues per year in the Minnesota counties bordering Ontario. On April 29, 1999, the USTR determined that an investigation should be initiated under section 302(a) of the Trade Act. See 64 FR 28545.

During the course of this investigation, the U.S. Government held a series of consultations with the Government of Canada and the Province of Ontario on the matters under investigation. On October 29, 1999, the Province of Ontario announced that it had revoked the provincial measures that were under investigation in this matter. On November 4, 1999, the Government of Canada agreed that the immigration measure under investigation would be reviewed by the NAFTA Temporary Entry Working Group. The USTR has determined that these measures and agreements provide a satisfactory resolution of the matters that are the subject of this investigation and that it is therefore appropriate to terminate this investigation. The USTR will continue to monitor implementation by the Government of Canada and the Province of Ontario of these measures and agreements.

Prior to terminating this 301 action, the USTR consulted with the domestic industry that filed the petition and with the State of Minnesota. An opportunity for public comment prior to this action was not possible in view of the need to provide prompt relief to the domestic industry.

Public Comments

Interested members of the public are invited to submit comments to USTR regarding this action. USTR will review these comments upon receipt.

Comments must be filed in accordance with the requirements set forth in 15 CFR 2006.8(b) and must be filed on or before March 13, 2000. Comments must be in English and provided in twenty copies to: Sybia Harrison, Staff Assistant to the Section 301 Committee, Room 223, Office of the U.S. Trade Representative, 600 17th Street, NW, Washington, DC 20508. Comments will be placed in a file (Docket 301-119) open to public inspection pursuant to 15 CFR 2006.13, except confidential business information exempt from public inspection in accordance with 15 CFR 2006.15. Confidential business information submitted in accordance with 15 CFR 2006.15 must be clearly marked “BUSINESS CONFIDENTIAL” in a contrasting color ink at the top of each page on each of 20 copies, and must be accompanied by a nonconfidential summary of the confidential information. The nonconfidential summary shall be placed in the file that is open to public inspection.

Copies of the public version of the petition and other relevant documents are available for public inspection in the USTR Reading Room. An appointment to review the docket may be made by calling Brenda Webb (202) 395-6186. The USTR Reading Room is open to the public from 9:30 a.m. to 12 noon and 1 p.m. to 4 p.m., Monday through Friday, and is located in Room 101.

William Busis,
Chairman, Section 301 Committee.

[FR Doc. 00-3437 Filed 2-14-00; 8:45 am]

BILLING CODE 3190-01-M